DEPARTMENT OF COMMERCE

National Oceanic and Atmospheric Administration

RIN 0648-XH52

Fisheries of the Exclusive Economic Zone Off Alaska; Prohibited Species Donation Program

AGENCY: National Marine Fisheries Service (NMFS), National Oceanic and Atmospheric Administration (NOAA), Commerce.

ACTION: Notice; selection of an authorized distributor.

SUMMARY: NMFS announces the renewal of permits to SeaShare (formerly Northwest Food Strategies) authorizing this organization to distribute Pacific salmon and Pacific halibut to economically disadvantaged individuals under the prohibited species donation (PSD) program. Salmon and halibut are caught incidentally during directed fishing for groundfish with trawl gear off Alaska. This action is necessary to comply with provisions of the PSD program and is intended to promote the goals and objectives of the North Pacific Fishery Management Council.

DATES: The permits are effective from August 15, 2008, through August 15, 2011.

ADDRESSES: Copies of the PSD permits for salmon and halibut may be obtained by mail from NMFS, Alaska Region, P. O. Box 21668, Juneau, AK 99802-1668, Attn: Ellen Sebastian, Records Officer; in person at NMFS, Alaska Region, 709 West 9th Street, Room 420A, Juneau, Alaska; or via the Internet at the NMFS Alaska Region website at http://www.fakr.noaa.gov.

FOR FURTHER INFORMATION CONTACT: Becky Carls, 907-586-7228.

SUPPLEMENTARY INFORMATION:

Background

Fishing for groundfish by U.S. vessels in the exclusive economic zone of the Bering Sea and Aleutian Islands management area (BSAI) and Gulf of Alaska (GOA) is managed by NMFS in accordance with the Fishery Management Plan for groundfish of the BSAI and the Fishery Management Plan for groundfish of the GOA (FMPs). These FMPs were prepared by the North Pacific Fishery Management Council under the Magnuson-Stevens Fishery Conservation and Management Act, 16 U.S.C. 1801 et seq. Regulations governing the Alaska groundfish fisheries and implementing the FMPs appear at 50 CFR parts 600 and 679. Fishing for halibut in waters in and off Alaska is governed by the Convention between the United States and Canada for the Preservation of the Halibut Fishery of the North Pacific Ocean and Bering Sea. The International Pacific Halibut Commission (IPHC) promulgates regulations pursuant to the Convention. The IPHC's regulations are subject to approval by the Secretary of State with concurrence from the Secretary of Commerce (Secretary). After approval by the Secretary of State and the Secretary, the IPHC regulations are published in the Federal Register as annual management measures pursuant to 50 CFR 300.62.

Amendments 26 and 29 to the BSAI and GOA FMPs, respectively, authorize a salmon donation program and were approved by NMFS on July 10, 1996; a final rule implementing this program was published in the Federal Register on July 24, 1996 (61 FR 38358). The salmon donation program was expanded to include halibut as part of the PSD program under Amendments 50 and 50 to the FMPs that were approved by NMFS on May 6, 1998. A final rule implementing Amendments 50 and 50 was published in the Federal Register on June 12, 1998 (63 FR 32144). Although that final rule contained a sunset provision for the halibut PSD program of December 31, 2000, the halibut PSD program was permanently extended under a final rule published in the Federal Register on December 14, 2000 (65 FR 78119). A full description of, and background information on, the PSD program may be found in the preambles to the proposed rules for Amendments 26 and 29, and Amendments 50 and 50 (May 16, 1996, 61 FR 24750, and March 4, 1998, 63 FR 10583, respectively).

Regulations at § 679.26 authorize the voluntary distribution of salmon and halibut taken incidentally in the groundfish trawl fisheries off Alaska, to economically disadvantaged individuals by tax-exempt organizations through an authorized distributor. The Administrator, Alaska Region, NMFS (Regional Administrator), may select one or more tax-exempt organizations to be authorized distributors, as defined by § 679.2, based on the information submitted by applicants under § 679.26. After review of qualified applicants, NMFS must announce the selection of authorized distributor(s) in the Federal Register and issue PSD permits to the selected distributor(s).

On March 24, 2008, the Acting Regional Administrator received two applications from SeaShare to renew both its salmon and halibut PSD permits that were issued August 15, 2005 (70 FR 40987, July 15, 2005). Revisions to the applications were received on May 6, 2008. The current salmon and halibut PSD permits issued to SeaShare authorize SeaShare to participate in the PSD program through August 15, 2008.

The Acting Regional Administrator reviewed the applications and determined that they are complete and that SeaShare continues to meet the requirements for a PSD program authorized distributor. As required by § 679.26(b)(2), the Acting Regional Administrator based his selection on the following criteria:

1. The number and qualifications of applicants for PSD permits. Seashare is the only applicant for PSD permits at this time. NMFS has previously approved applications submitted by SeaShare. As of the date of this notice, no other applications have been approved by NMFS. SeaShare has been coordinating the distribution of salmon taken incidentally in trawl fisheries since 1993, and of halibut taken incidentally in trawl fisheries since 1998, under exempted fishing permits from 1993 to 1996, and under the PSD program since 1996. SeaShare employs independent seafood quality control experts to ensure product quality is maintained by cold storage facilities and common carriers servicing the areas where salmon and halibut donations will take place.

2. The number of harvesters and the quantity of fish that applicants can effectively administer. For salmon, 3 shoreside processors, 17 catcher/processor vessels, and 36 catcher vessels currently participate in the PSD program administered by SeaShare. Three shoreside processors and 36 catcher vessels participate in the halibut donation program. SeaShare has the capacity to receive and distribute salmon and halibut from up to 40 processors and the associated catcher vessels. Therefore, it is anticipated that SeaShare has more than adequate capacity for any foreseeable expansion of donations.

In 2005, 2006, and 2007, SeaShare received 483,359 pounds, 171,628 pounds, and 87,330 pounds, respectively, of salmon for distribution to food bank organizations. During these same years, SeaShare received 20,960 pounds, 8,757 pounds, and 16,026 pounds, respectively, of halibut for distribution to food bank organizations. NMFS does not have information to convert accurately the net weights of salmon and halibut to numbers of salmon and numbers of halibut.

3. The anticipated level of salmon and halibut incidental catch based on salmon and halibut incidental catch from previous years. The incidental catch of salmon and incidental catch mortality of halibut in the GOA and BSAI trawl fisheries are shown in the following table:

Area Fishery | 2006 | 2007
BSAI Trawl Chinook Incidental Catch | 85,914 fish | 124,260 fish
BSAI Trawl Other Salmon Incidental Catch | 324,601 fish | 90,731 fish
GOA Trawl Chinook Incidental Catch | 19,158 fish | 40,182 fish
GOA Trawl Other Salmon Incidental Catch | 4,216 fish | 3,368 fish
BSAI Trawl Halibut Mortality | 3,436 mt | 3,356 mt
GOA Trawl Halibut Mortality | 1,996 mt | 1,944 mt

Halibut incidental catch amounts are constrained by an annual prohibited species catch limit in the BSAI and GOA. Future halibut incidental catch levels likely will be similar to those experienced in 2006 and 2007. Salmon prohibited species incidental catch limits are established for the BSAI pollock fisheries that when attained, result in the closure of specified fishing grounds for a specified period of time. An exemption to these closures is provided to participants in an intercooperative agreement to reduce salmon bycatch rates under Amendment 84 to the BSAI FMP (72 FR 61070, October 29, 2007). Salmon incidental catch limits are not established for the GOA. In general, salmon incidental catch amounts tend to be variable between years, making accurate prediction of future incidental take amounts difficult.

4. The potential number of vessels and processors participating in the groundfish trawl fisheries. In 2007, 18 shoreside processors, out of a total of 112 permitted, processed catch from trawl vessels. Also, in 2007, 146 trawl catcher vessels out of 205, 40 trawl catcher/processors out of 53, and 9 motherships and stationary floating processors out of 45 participated in the Alaska groundfish trawl fisheries.

The PSD permits are issued to SeaShare for a 3-year period unless suspended or revoked. They may not be transferred; however, they may be renewed following the application procedures in § 679.26.

If the authorized distributor modifies any information on the PSD permit application submitted under § 679.26(b)(1)(xi) or (b)(1)(xiii), the authorized distributor must submit a modified list of participants or a modified list of delivery locations to the Regional Administrator.

These permits may be suspended, modified, or revoked under 15 CFR part 904 for noncompliance with terms and conditions specified in the permit or for a violation of this section or other regulations in 50 CFR part 679.

Classification

This action is taken under § 679.26.

Authority: 16 U.S.C. 773 et seq.; 1801 et seq.; 3631 et seq.; Pub. L. 108-447.

Dated: June 17, 2008.
Emily H. Menashes
Acting Director, Office of Sustainable Fisheries, National Marine Fisheries Service.

[FR Doc. E8-14275 Filed 6-23-08; 8:45 am]

BILLING CODE 3510-22-S